DEPARTMENT OF TRANSPORTATION

Federal Motor Carrier Safety Administration

[Docket No. FMCSA-2002-13411]

Qualification of Drivers; Exemption Applications; Vision

AGENCY: Federal Motor Carrier Safety Administration (FMCSA), DOT.

ACTION: Notice of applications for exemption from the vision standard; request for comments.

SUMMARY: This notice publishes the FMCSA's receipt of applications from 33 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before January 13, 2003.

ADDRESSES: You can mail or deliver comments to the U.S. Department of Transportation, Dockets Management Facility, Room PL-401, 400 Seventh Street, SW., Washington, DC 20590-0001. You can also submit comments at http://dms.dot.gov. Please include the docket number that appears in the heading of this document. You can examine and copy this document and all comments received at the same Internet address or at the Dockets Management Facility from 9 a.m. to 5 p.m., e.t., Monday through Friday, except Federal holidays. If you want us to notify you that we received your comments, please include a self-addressed, stamped envelope or postcard.

FOR FURTHER INFORMATION CONTACT: Ms. Sandra Zywokarte, Office of Bus and Truck Standards and Operations, (202) 366-2987, FMCSA, Department of Transportation, 400 Seventh Street, SW., Washington, DC 20590-0001. Office hours are from 7:45 a.m. to 4:15 p.m., e.t., Monday through Friday, except Federal holidays.

SUPPLEMENTARY INFORMATION:

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 33 individuals listed in this notice have recently requested an exemption from the vision requirement in 49 CFR 391.41(b)(10), which applies to drivers of CMVs in interstate commerce. Accordingly, the agency will evaluate the qualifications of each applicant to determine whether granting the exemption will achieve the required level of safety.

Qualifications of Applicants

1. Michael D. Archibald

Mr. Archibald, age 57, lost his right eye in 1967 due to trauma. The visual acuity in his left eye is 20/15 corrected. His optometrist examined him in 2002 and stated, “It is my opinion, and I will certify that the ocular health and visual condition of Michael D. Archibald, Sr. are stable and that he has demonstrated the visual competency required to perform the driving tasks of a commercial vehicle.” Mr. Archibald reported that he has 5 years and 7,000 miles of experience in operating straight trucks, and 14 years and 1.2 million miles of experience in operating tractor-trailer combinations. He holds a Class A commercial driver's license (CDL) from the State of Washington, and his driving record for the last 3 years shows no accidents or convictions for traffic violations in a CMV.

2. Howard K. Bradley

Mr. Bradley, 38, has optic nerve atrophy in his right eye due to an accident in 1983. His visual acuity is 20/400 in the right eye and 20/20 in the left. An ophthalmologist who examined him in 2002 certified, “In my medical opinion, this patient has sufficient vision to perform the driving tasks required to operate a commercial vehicle.” Mr. Bradley submitted that he has operated tractor-trailer combinations for 19 years, accumulating 1.7 million miles. He holds a Class AM CDL from Virginia. His driving record shows he has had one accident and no convictions for traffic violations in a CMV during the last 3 years. According to the police report, a driver following Mr. Bradley rear-ended his vehicle. The other driver was charged with “Reckless Driving'; Mr. Bradley was not cited.

3. Kirk G. Braegger

Mr. Braegger, 52, has amblyopia in his left eye. His best-corrected visual acuity is 20/30 in the right eye and 20/80 in the left. An ophthalmologist examined him in 2002 and stated, “I certify that he does have sufficient vision to perform the driving tasks required to operate a commercial vehicle.” Mr. Braegger reported that he has driven tractor-trailer combinations for 20 years, accumulating 2.4 million miles. He holds a Class A CDL from Utah. His driving record for the last 3 years shows no accidents or convictions for moving violations in a CMV.

4. Daniel L. Butler

Mr. Butler, 60, has amblyopia in his left eye. His best-corrected visual acuity is 20/20 in the right eye and 20/200 in the left. An ophthalmologist examined him in 2002 and stated, “In my professional opinion, this person has sufficient vision to continue to perform the driving tasks required to operate a commercial vehicle.” Mr. Butler reported that he has driven straight trucks for 18 years, accumulating 1.0 million miles, and tractor-trailer combinations for 20 years, accumulating 1.2 million miles. He holds a Class A CDL from South Carolina. His driving record for the last 3 years shows one accident and no convictions for moving violations in a CMV. According to the police report, the driver of another vehicle ran over the curb of the median. The driver stated that she was forced to move toward the median when Mr. Butler changed into her lane. Mr. Butler stated that he observed the other vehicle to be approximately a truck-length behind him when he started to change lanes. Neither driver was cited.

5. Ambrosio E. Calles

Mr. Calles, 55, has amblyopia in his right eye. His best-corrected visual acuity is 20/200 in the right eye and 20/20 in the left. Following an examination in 2002 his optometrist stated, “I certify that in my medical opinion Mr. Calles has sufficient vision to perform the driving tasks required to operate a commercial vehicle.” Mr. Calles submitted that he has driven straight trucks for 2 years, accumulating 82,000 miles, and tractor-trailer combinations for 3 years, accumulating 123,000 miles. He holds a Class A CDL from New Mexico. His driving record for the last 3 years shows no accidents or convictions for moving violations in a CMV.

6. Sandy Clark

Mr. Clark, 67, incurred damage to the macula area of his right eye due to injury 40 years ago. His visual acuity is 20/200 in the right eye and 20/20 in the left. An optometrist examined him in 2002 and certified, “Due to his past driving record and good vision when using both eyes, I feel his vision is adequate to safely operate a commercial motor vehicle.” Mr. Clark reported that he has driven straight trucks for 22 years, accumulating 143,000 miles, and tractor-trailer combinations for 9 years, accumulating 270,000 miles. He holds a Class A CDL from Louisiana. His driving record for the last 3 years shows one accident and no convictions for moving violations in a CMV. According to the police report, another driver entered the roadway from a private driveway and struck Mr. Clark's vehicle on the side as Mr. Clark swerved to avoid the collision. The other driver was charged with “Failure to Yield'; Mr. Clark was not cited.

7. Jose G. Cruz

Mr. Cruz, 32, lost his left eye due to trauma 23 years ago. The uncorrected visual acuity in his right eye is 20/20. Following an examination in 2002, his ophthalmologist certified, “Mr. Cruz in all regards is able to operate a commercial vehicle as safely as possible with his current vision such as he has been doing in the past.” Mr. Cruz submitted that he has driven tractor-trailer combinations for 4 years, accumulating 336,000 miles. He holds a Class A CDL from Texas. His driving record for the last 3 years shows no accidents or convictions for moving violations in a CMV.

8. Everett A. Doty

Mr. Doty, 39, has amblyopia in his left eye. His best-corrected visual acuity in the right eye is 20/15 and in the left, 20/80. An optometrist examined him in 2002 and stated, “In my medical opinion, Everett Allen Doty has sufficient vision to perform the driving tasks required to operate a commercial vehicle.” Mr. Doty submitted that he has driven straight trucks for 22 years, accumulating 220,000 miles. He holds a Class A driver's license from Arizona. His driving record for the last 3 years shows no accidents or convictions for moving violations in a CMV.

9. Donald K. Driscoll

Mr. Driscoll, 35, has amblyopia in his right eye. His visual acuity is 20/70 in the right eye and 20/20 in the left. Following an examination in 2002, his ophthalmologist certified, “In my opinion, Mr. Driscoll has vision sufficient and adequate for the performance of the driving tasks required to operate a commercial vehicle.” Mr. Driscoll reported that he has driven straight trucks for 6 years, accumulating 84,000 miles. He holds a Class A CDL from Massachusetts, and there are no accidents or convictions for moving violations on his driving record for the last 3 years.

10. Donald J. Goretski

Mr. Goretski, 57, has had retinal scarring in his left eye since 1996. His best-corrected visual acuity is 20/20 in the right eye and 20/200+ in the left. Following an examination in 2002 his optometrist stated, “It is my opinion that Mr. Goretski has adequate visual acuity and peripheral vision to safely operate a commercial motor vehicle.” Mr. Goretski reported that he has driven straight trucks for 2 years, accumulating 120,000 miles, and tractor-trailer combinations for 32 years, accumulating 3.2 million miles. He holds a Class ABCD CDL from Wisconsin. His driving record for the last 3 years shows no accidents or convictions for moving violations in a CMV.

11. Alf M. Gronstedt

Mr. Gronstedt, 56, has amblyopia in his right eye. His best-corrected visual acuity is 20/200 in the right eye and 20/25 in the left. Following an examination in 2002, his optometrist certified, “In my medical opinion, Alf M. Gronstedt should be able to perform the driving tasks required to operate a commercial vehicle.” Mr. Gronstedt reported that he has driven tractor-trailer combinations for 35 years, accumulating 2.8 million miles. He holds a Class A CDL from Texas, and his driving record shows that he has had no accidents or convictions for traffic violations in a CMV during the last 3 years.

12. David R. Gross

Mr. Gross, 63, has had retinal scarring in his left eye for 35 years. His best-corrected visual acuity is 20/20-1 in the right eye and 20/200 in the left. Following an examination in 2002, his optometrist stated, “I believe that Mr. Gross has the visual ability to perform the driving tasks required to operate a commercial vehicle.” Mr. Gross submitted that he has driven straight trucks for 20 years, accumulating 1.6 million miles. He holds a Class A CDL from Pennsylvania. His driving record shows no accidents or convictions for moving violations in a CMV during the last 3 years.

13. Thomas L. Hall

Mr. Hall, 47, has amblyopia in his right eye. His best-corrected visual acuity is 20/200 in the right eye and 20/40 in the left. An ophthalmologist examined him in 2002 and certified, “Based upon my examination of Mr. Thomas Hall, it is my medical opinion that he has sufficient vision to perform the driving tasks required to operate a commercial vehicle.” Mr. Hall submitted that he has driven straight trucks for 16 years, accumulating 560,000 miles, and tractor-trailer combinations for 11 years, accumulating 330,000 miles. He holds a Class AM CDL from New York. His driving record for the past 3 years shows one accident and no convictions for moving violations in a CMV. According to the police report, Mr. Hall was proceeding through an intersection on a green light when another driver attempting to make a right turn on red struck his vehicle. Neither driver was cited.

14. Raymond G. Hayden

Mr. Hayden, 60, lost all but light perception in his left eye in 1988 after failure of a retinal detachment procedure. The best-corrected visual acuity in his right eye is 20/20. An ophthalmologist examined him in 2002 and certified, “In my opinion he has sufficient vision to perform the driving tasks required to operate a commercial vehicle provided he meets all the other requirements of the visual exemption program.” Mr. Hayden reported that he has driven tractor-trailer combinations for 35 years, accumulating 3.5 million miles. He holds a Class A CDL from Louisiana. His driving record shows no accidents or convictions for moving violations in a CMV during the last 3 years.

15. Harry P. Henning

Mr. Henning, 38, lost his right eye due to injury at the age of 8. His uncorrected visual acuity in the left eye is 20/15. An optometrist examined him in 2002 and certified, “Although Harry's visual function is slightly less than a binocular patient, I believe he has sufficient vision to drive a commercial vehicle as long as he is careful in using his mirrors and judgment.” Mr. Henning reported that he has driven straight trucks for 15 years, accumulating 225,000 miles, and tractor-trailer combinations for 15 years, accumulating 300,000 miles. He holds a Class A CDL from Pennsylvania. His driving record shows one accident and no convictions for moving violations in a CMV during the last 3 years. According to the accident report, an oncoming vehicle crossed the centerline and struck the vehicle that Mr. Henning was driving. The other driver was cited for “Roadways Laned for Traffic”; Mr. Henning was not cited.

16. Bruce G. Horner

Mr. Horner, 51, has amblyopia in his left eye. His best-corrected visual acuity is 20/20 in the right eye and 20/200 in the left. An optometrist examined him in 2002 and certified, “I believe that in my medical opinion, Bruce has sufficient vision to perform driving tasks required to operate a commercial vehicle.” Mr. Horner submitted that he has driven tractor-trailer combinations for 16 years, accumulating 2.1 million miles. He holds a Class A CDL from the State of Washington. His driving record shows no accidents or convictions for moving violations during the last 3 years.

17. Jeffery S. Lathrop

Mr. Lathrop, 42, has amblyopia in his left eye. His best-corrected vision in the right eye is 20/20 and in the left, 20/400. An optometrist examined him in 2002 and certified, “In my opinion, Jeff has sufficient vision to operate a commercial vehicle.” Mr. Lathrop submitted that he has driven straight trucks for 3 years, accumulating 39,000 miles, and tractor-trailer combinations for 11 years, accumulating 352,000 miles. He holds a Class A CDL from North Carolina, and there are no accidents or convictions for moving violations in a CMV on his driving record for the last 3 years.

18. Tommy R. Masterson

Mr. Masterson, 48, has amblyopia in his left eye. His best-corrected visual acuity is 20/20 in the right eye and 20/100 in the left. Following an examination in 2002, his optometrist commented, “It is my opinion that Mr. Masterson has the vision to perform the driving tasks required to operate a commercial vehicle.” Mr. Masterson submitted that he has driven straight trucks for 25 years, accumulating 1.0 million miles, and tractor-trailer combinations for 20 years, accumulating 850,000 miles. He holds a Class A CDL from Oregon, and his driving record shows he has had no accidents or convictions for moving violations in a CMV during the last 3 years.

19. Daniel A. McKeon

Mr. McKeon, 60, has amblyopia in his left eye. His best-corrected visual acuity in the right eye is 20/20 and in the left, 20/70. Following an examination in 2002, his optometrist commented, “In my opinion, Mr. McKeon's visual condition, refractive amblyopia—left eye, does not prevent him from safely performing the driving tasks required to operate a car or truck.” Mr. McKeon reported that he has driven straight trucks for 6 years, accumulating 300,000 miles, and tractor-trailer combinations for 15 years, accumulating 1.9 million miles. He holds a Class A CDL from Minnesota. His driving record shows no accidents or convictions for moving violations in a CMV during the last 3 years.

20. Ralph J. Miles

Mr. Miles, 38, has amblyopia in his left eye. His best-corrected visual acuity is 20/20 in the right eye and 20/200 in the left. Following an examination in 2002 his ophthalmologist certified, “My medical opinion is that Mr. Miles has sufficient vision to perform the driving tasks required to operate a commercial vehicle.” Mr. Miles submitted that he has driven straight trucks for 6 years, accumulating 240,000 miles. He holds a Class C driver's license from Oregon. His driving record shows no accidents or convictions for moving violations in a CMV for the last 3 years.

21. William R. New

Mr. New, 54, has amblyopia in his left eye. His best-corrected visual acuity is 20/15 in the right eye and 20/70 in the left. An ophthalmologist examined him in 2002 and certified, “It is my medical opinion that Mr. New's vision is sufficient to perform his job as a commercial truck driver.” Mr. New submitted that he has driven straight trucks for 14 years, accumulating 840,000 miles, and tractor-trailer combinations for 10 years, accumulating 600,000 miles. He holds a Class A CDL from Arkansas. His driving record for the last 3 years shows no accidents or convictions for moving violations in a CMV.

22. Kirby G. Oathout

Mr. Oathout, 51, has amblyopia in his left eye. His best-corrected visual acuity is 20/20-1 in the right eye and 20/80-1 in the left. Following an examination in 2002, his optometrist commented, “Because of the excellent vision in the right eye and the normal peripheral vision in both eyes as well as the fact that he has had his entire life to adapt to this condition, I believe Mr. Oathout has sufficient vision to perform driving tasks related to driving a commercial vehicle.” Mr. Oathout submitted that he has driven straight trucks for 5 years, accumulating 275,000 miles. He holds a Class ABCDM CDL from Wisconsin. His driving record for the last 3 years shows no accidents or convictions for moving violations in a CMV.

23. Ronald F. Prezzia

Mr. Prezzia, 47, has amblyopia in his right eye. His best-corrected visual acuity is 20/60 in the right eye and 20/30 in the left. An ophthalmologist examined him in 2002 and certified, “In my medical opinion, Mr. Prezzia has sufficient vision to perform the driving tasks that are required to operate a commercial vehicle.” Mr. Prezzia reported that he has driven straight trucks for 1½ years, accumulating 40,000 miles, and tractor-trailer combinations for 23 years, accumulating 1.1 million miles. He holds a Class A CDL from Illinois. His driving record for the last 3 years shows no accidents or convictions for moving violations in a CMV.

24. Joseph J. Rettenmeier

Mr. Rettenmeier, 38, has amblyopia in his left eye. His best-corrected visual acuity is 20/20 in the right eye and 20/50 in the left. An optometrist examined him in 2002 and certified, “My medical opinion is that Joe Rettenmeier has sufficient vision to perform all the driving tasks required to operate a commercial vehicle.” Mr. Rettenmeier reported that he has driven straight trucks for 8 years, accumulating 520,000 miles, and tractor-trailer combinations for 10 years, accumulating 1.0 million miles. He holds a Class A CDL from Iowa. His driving record shows no accidents or convictions for moving violations in a CMV during the last 3 years.

25. Thomas C. Rylee

Mr. Rylee, 55, has amblyopia in his left eye. His best-corrected visual acuity is 20/20 in the right eye and 20/400 in the left. Following an examination in 2002, his optometrist certified, “Mr. Rylee has sufficient vision to perform the driving tasks required to operate a commercial vehicle.” In his application, Mr. Rylee indicated he has driven tractor-trailer combinations for 26 years, accumulating 1.1 million miles, and buses for 3 years, accumulating 4,000 miles. He holds a Class A CDL from Georgia, and his driving record for the last 3 years shows no accidents or convictions for moving violations in a CMV.

26. Stanley B. Salkowski III

Mr. Salkowski, 40, has amblyopia in his right eye. His visual acuity is 20/60-in the right eye and 20/20 in the left. Following an examination in 2002, his optometrist certified, “His condition is stable and it is my impression that his vision is sufficient to perform all the driving tasks required to drive a commercial vehicle.” Mr. Salkowski submitted that he has driven straight trucks for 11 years, accumulating 297,000 miles, and tractor-trailer combinations for 10 years, accumulating 680,000 miles. He holds a Class A CDL from Pennsylvania, and his driving record shows he has had no accidents or convictions for moving violations in a CMV in the last 3 years.

27. Wolfgang V. Spekis

Mr. Spekis, 47, has amblyopia in his left eye. His visual acuity is 20/25 in the right eye and 20/400 in the left. Following an examination in 2002, his ophthalmologist stated, “Given what he has told me, I do believe that his visual acuity is sufficient to permit him to drive a commercial vehicle accurately and that his diabetic retinopathy is not at present leading to any visual deficiency.” Mr. Spekis submitted that he has driven straight trucks for 12 years, accumulating 720,000 miles. He has a Maryland Class B CDL, and there are no accidents or convictions for moving violations on his driving record for the last 3 years.

28. James A. Stoudt

Mr. Stoudt, 50, has amblyopia in his left eye. His best-corrected vision in the right eye is 20/20-2 and in the left, 20/100+. Following an examination in 2002, his ophthalmologist stated, “I feel that he can compensate fairly well visually, and he is able to continue his career as a truck driver from my standpoint.” Mr. Stoudt submitted that he has 14 years and 1.0 million miles of experience in driving tractor-trailer combinations. He holds a Class A CDL from Pennsylvania, and his driving record for the last 3 years contains no accidents or convictions for moving violations in a CMV.

29. Michael G. Thomas

Mr. Thomas, 31, has amblyopia in his left eye. His visual acuity in the right eye is 20/20 and in the left, 20/200. An optometrist examined him in 2002 and stated, “I certify that in my professional opinion, Michael G. Thomas has sufficient vision to perform the driving tasks required to operate a commercial vehicle.” In his application, Mr. Thomas indicated he has 9 years and 148,000 miles of experience in driving straight trucks. He holds a Class C driver's license from Maryland, and his driving record shows no accidents or moving violations in a CMV during the last 3 years.

30. Brian S. Thompson

Mr. Thompson, 38, has amblyopia in his left eye. His best-corrected visual acuity in the right eye is 20/20 and in the left, 20/50. An optometrist examined him in 2002 and stated, “Brian has sufficient visual function to perform his duties as a driver of commercial vehicles.” Mr. Thompson submitted that he has driven straight trucks for 18 years, accumulating 201,000 miles. He holds a Class B CDL from Ohio. His driving record shows no accidents or convictions for moving violations in a CMV during the last 3 years.

31. William H. Twardus

Mr. Twardus, age 56, has amblyopia in his left eye. His best-corrected visual acuity is 20/20 in the right eye and 20/100 in the left. Following an examination in 2002, his optometrist certified, “It is my opinion that with the visual field and the visual acuity of Mr. William Twardus that he has adequate vision to perform the driving tasks that are required to operate a commercial vehicle.” Mr. Twardus reported that he has driven straight trucks for 24 years, accumulating 624,000 miles. He holds a Class A CDL from Delaware. His driving record shows no accidents or convictions for moving violations in a CMV during the last 3 years.

32. Ronald J. Watt

Mr. Watt, 71, lost his right eye in 1996 due to trauma. His best-corrected visual acuity is 20/20 in the left eye. An optometrist examined him in 2002 and certified, “In my opinion, Mr. Watt has sufficient vision to perform the driving tasks required to operate a commercial vehicle.” Mr. Watt reported that he has driven straight trucks for 40 years, accumulating 1.2 million miles, and tractor-trailer combinations for 24 years, accumulating 2.5 million miles. He holds a Class A CDL from North Dakota. His driving record shows no accidents or convictions for moving violations in a CMV for the last 3 years.

33. Dale R. Wheeler

Mr. Wheeler, 49, has had a macular scar in his right eye since birth. His best-corrected visual acuity is 20/260 in the right eye and 20/20 in the left. An optometrist examined him in 2002 and stated, “In my opinion, Dale Wheeler has sufficient vision to operate a commercial vehicle.” Mr. Wheeler reported that he has driven straight trucks for 1 year, accumulating 20,000 miles, and tractor-trailer combinations for 6 years, accumulating 600,000 miles. He holds a Class A CDL from North Dakota. His driving record for the last 3 years shows no accidents and one conviction for a moving violation—Speeding—in a CMV. He exceeded the speed limit by 15 mph.

Request for Comments

In accordance with 49 U.S.C. 31315 and 31136(e), the FMCSA requests public comment from all interested persons on the exemption petitions described in this notice. We will consider all comments received before the close of business on the closing date indicated earlier in the notice.

Issued on: December 5, 2002.
Brian M. McLaughlin,
Associate Administrator, Policy and Program Development.

[FR Doc. 02-31356 Filed 12-11-02; 8:45 am]

BILLING CODE 4910-EX-P